NATIONAL FOUNDATION ON THE ARTS AND THE HUMANITIES

Institute of Museum and Library Services; Amended Notice: Proposed Collection, Comment Request, Recruiting and Educating Librarians for the 21st Century Application Form

AGENCY: Institute of Museum and Library Services.

ACTION: Notice.

SUMMARY: The Institute of Museum and Library Services, as part of its continuing effort to reduce paperwork and respondent burden, conducts a pre-clearance consultation program to provide the general public and federal agencies with an opportunity to comment on proposed and/or continuing collections of information in accordance with the Paperwork Reduction Act of 1995 (44 U.S.C. Section 3508(2)(A)). This program helps to ensure that requested data can be provided in the desired format, the reporting burden (time and financial resources) is minimized, collection instruments are clearly understood, and the impact of collection requirements on respondents can be properly assessed. Currently, the Institute of Museum and Library Services is soliciting comments on an application and guidelines for a grant opportunity focusing on “Recruiting and Educating Librarians for the 21st Century.” This Notice amends an earlier Notice published in 67 FR 51601.

A copy of the proposed information collection request can be obtained by contacting the individual listed below in the addressee section of this notice.

DATES: Written comments must be submitted to the office listed in the addressee section below on or before [insert date 45 days from time of publication] from the date of this publication.

SUPPLEMENTARY INFORMATION:

I. Background

The Institute of Museum and Library Services is an independent Federal grant-making agency authorized by the Museum and Library Services Act, Public Law 104-208. IMLS provides a variety of grant programs to assist the nation's museums and libraries in improving their options and enhancing their services to the public. Museums and libraries of all sizes and types may receive support from IMLS programs.

The President's FY 2003 Budget Request submitted to Congress in early February, 2002, proposes a $10 million initiative to educate and train librarians. Anticipating the loss of as many as 68% of the current cohort of professional librarians by 2019, the initiative will be designed to “help recruit a new generation of librarians.

The President's proposed initiative recognizes the key role of libraries and librarians in maintaining the flow of information that is critical to support formal education; to guide intellectual, scientific, and commercial enterprise; to strengthen individual decisions; and to create the informed populace that lies at the core of democracy.”

Draft applications and guidelines are prepared contingent upon availability of funding.

II. Scope of Information Requested

IMLS is particularly interested in comments that helps the agency to (1) Evaluate whether the proposed collection of information is necessary for the proper performance of the functions of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including through the use of appropriate automated, electronic, mechanical, or other technological collection techniques or other forms of information technology, e.g., permitting electronic submissions of responses.

Agency: Institute of Museum and Library Services.

Title: Recruiting and Educating Librarians for the 21st Century.

OMB Number: N/A.

Agency Number: 3137.

Frequency: One time.

Affected Public: Libraries and schools of library information science.

Number of Respondents: 120.

Estimated Time Per Respondent: 40 hours.

Total Burden Hours: 4800.

Total Annualized capital/startup costs: 0.

FOR FURTHER INFORMATION CONTACT: Mamie Bittner, Director, Office of Public and Legislative Affairs, Institute of Museum and Library Services, 1100 Pennsylvania Avenue, NW., Washington, DC 20506. e-mail: mbittner@imls.gov. Fax: (202) 606-8591. e-mail or fax preferred.

Dated: August 9, 2002.
Nancy E. Weiss,
Federal Register Officer, National Foundation on the Arts and Humanities, Institute of Museum and Library Services.

[FR Doc. 02-20731 Filed 8-14-02; 8:45 am]

BILLING CODE 7036-01-M